DEPARTMENT OF EDUCATION

[Docket ID ED-2010-IES-0008]

Notice Inviting Comments on Priorities To Be Proposed to the National Board for Education Sciences of the Institute of Education Sciences

AGENCY: Institute of Education Sciences, Department of Education.

ACTION: Notice inviting comments on priorities to be proposed to the National Board for Education Sciences of the Institute of Education Sciences.

SUMMARY: The Director of the Institute of Education Sciences (Institute) has developed priorities to guide the work of the Institute. The National Board for Education Sciences (Board) must approve the priorities, but before proposing the priorities to the Board, the Director must seek public comment on the priorities. The public comments will be provided to the Board prior to its action on the priorities.

DATES: We must receive your comments on or before September 7, 2010.

ADDRESSES: Submit your comments through the Federal eRulemaking Portal or via postal mail, commercial delivery, or hand delivery. We will not accept comments by fax or by e-mail. Please submit your comments only one time, in order to ensure that we do not receive duplicate copies. In addition, please include the Docket ID at the top of your comments.

• Federal eRulemaking Portal: Go to http://www.regulations.gov to submit your comments electronically. Information on using Regulations.gov, including instructions for accessing agency documents, submitting comments, and viewing the docket, is available on the site under “How To Use This Site.”

• Postal Mail, Commercial Delivery, or Hand Delivery. If you mail or deliver your comments about these proposed priorities, address your comments to Elizabeth Payer, U.S. Department of Education, 555 New Jersey Avenue, NW., room 602c, Washington, DC 20208.

Privacy Note: The Department's policy for comments received from members of the public (including those comments submitted by mail, commercial delivery, or hand delivery) is to make these submissions available for public viewing in their entirety on the Federal eRulemaking Portal at http://www.regulations.gov. Therefore, commenters should be careful to include in their comments only information that they wish to make publicly available on the Internet.

FOR FURTHER INFORMATION CONTACT: Elizabeth Payer. Telephone: (202) 219-1310.

If you use a telecommunications device for the deaf (TDD), call the Federal Relay Service (FRS), toll free, at 1-800-877-8339.

SUPPLEMENTARY INFORMATION: Invitation to Comment: We invite you to submit comments regarding these proposed priorities. During and after the comment period, you may inspect all public comments about these proposed priorities by accessing Regulations.gov. You may also inspect the comments, in person, in room 602q, 555 New Jersey Avenue, NW., Washington, DC, between the hours of 8:30 a.m. and 4 p.m., Eastern time, Monday through Friday of each week except Federal holidays.

Assistance to Individuals With Disabilities in Reviewing the Record: On request we will provide an appropriate accommodation or auxiliary aid to an individual with a disability who needs assistance to review the comments or other documents in the public rulemaking record for these proposed priorities. If you want to schedule an appointment for this type of accommodation or auxiliary aid, please contact the person listed under FOR FURTHER INFORMATION CONTACT.

Background: The Education Sciences Reform Act of 2002 (20 U.S.C. 9516) requires that the Director of the Institute propose to the Board priorities for the Institute. The Director is to identify topics that require long term research and topics that are focused on understanding and solving education problems and issues, including those associated with the goals and requirements of the Elementary and Secondary Education Act of 1965, as amended; the Individuals with Disabilities Education Act, as amended; and the Higher Education Act of 1965, as amended; such as closing the achievement gap; ensuring that all children have the ability to obtain a high-quality education and reach, at a minimum, proficiency on State standards and assessments; and ensuring access to, and opportunities for, postsecondary education.

Before submitting proposed priorities to the Board, the Director must make the priorities available to the public for comment for not less than 60 days. Each comment submitted must be provided to the Board.

The Director anticipates submitting to the Board proposed priorities for the Institute at a meeting to be held in September, 2010.

The Board must approve or disapprove the priorities for the Institute proposed by the Director, including any necessary revision of the priorities. Approved priorities are to be transmitted to appropriate congressional committees by the Board.

The Director will publish in the Federal Register the Institute's plan for addressing the priorities and make it available for comment for not less than 60 days.

Proposed Priorities

The overall mission of the Institute is to expand fundamental knowledge and understanding of education and to provide education leaders and practitioners, parents and students, researchers, and the general public with unbiased, reliable, and useful information about the condition and progress of education in the United States; about education policies, programs, and practices; and about the effectiveness of Federal and other education programs.

The work of the Institute is grounded in the principle that effective education research must be informed by the interests and needs of education practitioners and policymakers. To this end, the Institute will encourage close partnerships between researchers and practitioners in the conceptualization, planning, and conduct of research and evaluation. The Institute will facilitate the use of education statistics, research, and evaluation in educational planning both by including members of the practitioner community in the design and conduct of the work and by producing reports that are accessible, timely, and meaningful to the day-to-day work of education practitioners and policymakers. Further, the Institute will seek to increase the capacity of education policymakers and practitioners to use the knowledge generated from high quality data analysis, research, and evaluation.

To accomplish this mission, the Institute will compile statistics, support research, conduct evaluations, and facilitate the use of scientific evidence addressing a broad range of education outcomes for all students, including those with disabilities. These education outcomes may include, but are not limited to: School readiness and developmental outcomes for infants, toddlers, and young children; learning, higher order thinking, and achievement in reading and writing, mathematics, and the sciences; behaviors, skills, and dispositions that support learning in school and later success in the workforce; educational attainment in postsecondary, vocational, and adult education; and the training, recruitment, and retention of educators.

Within these areas, the Institute will sponsor work to: Examine the state of education in the United States; develop and evaluate innovative approaches to improving education outcomes; understand the characteristics of high-quality teaching and how better to train current and prospective teachers; understand the processes of schooling through which educational policies, programs, and practices affect students; and understand classroom, school, and other social contextual factors that moderate the effects of education practices and contribute to their successful implementation and sustainability. In doing so, the Institute will seek to identify education policies, programs, and practices that improve education outcomes; and to determine how, why, for whom, and under what conditions these policies, programs, and practices are effective. In particular, the Institute will promote research to improve education outcomes for those students who have traditionally been poorly served by the education system because of their socioeconomic status, race/ethnicity, disability, limited English proficiency, and residential or school mobility, with a goal of generating knowledge to assist educators and policymakers in assessing and improving the equity of the education system.

The Institute will maintain rigorous scientific standards for the technical quality of its statistics, research, and evaluation activities, ensuring that the methods applied are appropriate to the questions asked and the results are valid and reliable. The work of the Institute will include a variety of research and statistical methods. The Institute will support the development of improved research methods; improved measures of a broad range of education processes, systems, and outcomes; and improved analytical approaches for designing and conducting education research. Where needed, the Institute will develop and publish rigorous technical standards for these methods. The Institute will ensure the quality and objectivity of its work by submitting all products to rigorous scientific review. In addition to supporting new research, the Institute will facilitate the synthesis of existing and ongoing research to construct coherent bodies of scientific knowledge about education. The Institute will build the capacity of the education research community by supporting post-doctoral and interdisciplinary doctoral training in the education sciences, equipping education researchers with the skills to conduct rigorous research and effectively engage the practitioner community in that research, and by conducting training in research design and methods and in the use of longitudinal data.

Accessible Format: Individuals with disabilities can obtain this document in an accessible format (e.g., braille, large print, audiotape, or computer diskette) on request to the contact person listed under FOR FURTHER INFORMATION CONTACT.

Electronic Access to This Document

You can view this document, as well as all other documents of this Department published in the Federal Register, in text or Adobe Portable Document Format (PDF) on the Internet at the following site: http://www.ed.gov/news/fedregister. To use PDF you must have Adobe Acrobat Reader, which is available free at this site.

You may also view this document in text (Word and PDF) at the following site: http://ies.ed.gov/whatsnew/.

Note: The official version of this document is the document published in the Federal Register. Free Internet access to the official edition of the Federal Register and the Code of Federal Regulations is available on GPO Access at: http://www.gpoaccess.gov/nara/index.html.

(Catalog of Federal Domestic Assistance number does not apply.)

Program Authority: 20 U.S.C. 9501 et seq.

Dated: July 1, 2010.
John Q. Easton,
Director, Institute of Education Sciences.

[FR Doc. 2010-16527 Filed 7-6-10; 8:45 am]

BILLING CODE 4000-01-P